DEPARTMENT OF AGRICULTURE

Animal and Plant Health Inspection Service

9 CFR Part 93

[Docket No. APHIS-2012-0073]

RIN 0579-AD91

Cattle Fever Tick; Importation Requirements for Ruminants From Mexico

AGENCY: Animal and Plant Health Inspection Service, USDA.

ACTION: Final rule.

SUMMARY: We are amending the regulations to recognize the State of Sonora as a region in Mexico that is free of fever ticks. We are also establishing an exemption from acaricide dipping treatment requirements, and the documentation requirements associated with such dipping, that were formerly applicable to cattle and other ruminants originating from Sonora as a condition of eligibility for entry to the United States, provided that certain conditions are met. This action will remove restrictions on the importation of cattle and other ruminants from Sonora that we believe are no longer necessary and reduce the costs associated with tick dipping for exporters and importers of ruminants.

DATES: Effective March 30, 2015.

FOR FURTHER INFORMATION CONTACT: Dr. Betzaida Lopez, Senior Staff Veterinarian, National Import Export Services, VS, APHIS, 4700 River Road Unit 39, Riverdale, MD 20737; (301) 851-3300.

SUPPLEMENTARY INFORMATION:

Background

The regulations in 9 CFR part 93 prohibit or restrict the importation of certain animals, birds, and poultry into the United States to prevent the introduction of communicable diseases of livestock and poultry. Subpart D of part 93 (§§ 93.400 through 93.436, referred to below as the regulations) governs the importation of ruminants; within subpart D, §§ 93.424 through 93.429 specifically address the importation of various ruminants from Mexico into the United States.

On July 17, 2014, we published in the Federal Register (79 FR 41652-41656, Docket No. APHIS-2012-0073) a proposal¹ to amend the regulations by recognizing the State of Sonora as a region in Mexico that is free of fever ticks. We also proposed to establish an exemption from acaricide dipping treatment requirements, and the documentation requirements associated with such dipping, that have applied to cattle and other ruminants originating from Sonora as a condition of eligibility for entry to the United States, provided that certain conditions are met.

¹ To view the proposed rule and the comments we received, go to http://www.regulations.gov/#!docketDetail;D=APHIS-2012-0073.

We solicited comments concerning our proposal for 60 days ending September 15, 2014. We received two comments by that date. They were from a cattle producers' association and an individual. One commenter supported the proposed rule. The other expressed a generalized opposition, but did not address the actual content of the proposed rule. Thus, there is no need to address that comment. Therefore, for the reasons given in the proposed rule and in this document, we are adopting the proposed rule as a final rule, without change.

Executive Order 12866 and Regulatory Flexibility Act

This final rule has been determined to be not significant for the purposes of Executive Order 12866 and, therefore, has not been reviewed by the Office of Management and Budget.

In accordance with 5 U.S. C. 604, we have performed a final regulatory flexibility analysis, which is summarized below, regarding the economic effects of this rule on small entities. Copies of the full analysis are available on the Regulations.gov Web site (see footnote 1 for a link to Regulations.gov) or by contacting the person listed under FOR FURTHER INFORMATION CONTACT.

We are recognizing the Mexican State of Sonora as a region that is free of fever ticks. Under this rulemaking, importers of cattle from Sonora will have to submit an application either for inspection or dipping, but not both, as was previously required.

From 2009 to 2013, 1.21 million cattle were imported yearly from Mexico. About one-fourth came from Sonora. Cattle imported into the United States from Mexico are generally purchased by stocker operations that background the cattle on pasture before they are shipped to feedlots.

The average unit price of cattle imported from Mexico between 2009 and 2013 was about $440. The average cost of dipping with an acaricide is $3.50 to $10.00 per head. It takes approximately 5 seconds for 3 cattle to cross a dipping vat. For an average 500-head herd, dipping takes about 15 minutes. To inspect a 500-head herd takes from 4 to 12 hours. Depending on the size of the herd and time needed for inspection, some importers may choose to have the cattle dipped rather than inspected. The estimated cost of dipping is equivalent to about 1 to 2 percent of the value of the imported cattle. Any resulting cost savings realized by U.S. cattle importers due to inspection rather than dipping of cattle will depend on the relative price responsiveness of the sellers and buyers of the cattle. APHIS does not expect the rule to result in an increase of any consequence in the number of cattle imported from Mexico.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

In accordance with section 3507(d) of the Paperwork Reduction Act of 1995 (44 U.S. C. 3501 et se.), the information collection or recordkeeping requirements included in this final rule, which were filed under 0579-0425, have been submitted for approval to the Office of Management and Budget (OMB). When OMB notifies us of its decision, if approval is denied, we will publish a document in the Federal Register providing notice of what action we plan to take.

E-Government Act Compliance

The Animal and Plant Health Inspection Service is committed to compliance with the E-Government Act to promote the use of the Internet and other information technologies, to provide increased opportunities for citizen access to Government information and services, and for other purposes. For information pertinent to E-Government Act compliance related to this rule, please contact Ms. Kimberly Hardy, APHIS' Information Collection Coordinator, at (301) 851-2727.

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. In § 93.400, the definition of fever tick is revised to read as follows:

§ 93.400 Definitions.

* * * * *

Fever tick. Rhipicephalus annulatus, Rhipicephalus microplus, and any other species of tick determined by the Administrator to be a vector of bovine babesiosis and specified on the Internet at http://www.aphis.usda.gov/wps/portal/aphis/ourfocus/importexport.

* * * * *

§ 93.423 [Amended]

3. In § 93.423, paragraph (c) is amended by removing the words “splenetic, southern, or tick fever” and adding the words “bovine babesiosis” in their place.

4. In § 93.427, paragraph (b) and the OMB citation at the end of the section are revised to read as follows:

§ 93.427 Cattle and other bovines from Mexico.

* * * * *

(b)(1) Cattle from regions of Mexico that APHIS has determined to be free from fever ticks. APHIS has evaluated certain regions of Mexico in accordance with § 92.2 of this chapter, and determined that they are free from fever ticks; a list of all such regions is found on the Internet http://www.aphis.usda.gov/wps/portal/aphis/ourfocus/importexport. Copies of the list are also available by contacting APHIS at the following address: Regionalization Evaluation Services, National Import Export Services, Veterinary Services, Animal and Plant Health Inspection Service, 4700 River Road Unit 38, Riverdale, MD 20737. Regions may be removed from the list based on a determination by APHIS that fever ticks exist in the region, on the discovery of tick-infested cattle from the region at a port of entry into the United States, or on information provided by a representative of the government of that region that fever ticks exist in the region. Cattle from regions of Mexico that APHIS has determined to be free from fever ticks may be imported into the United States subject to the following conditions:

(i) The cattle are accompanied by a certificate issued in accordance with § 93.405 that states that the cattle originate from a region of Mexico that APHIS has determined to be free from fever ticks.

(ii) If the cattle will transit to the United States through an area of Mexico that APHIS has not determined to be free from fever ticks, they are moved in a sealed means of conveyance, and that seal remains intact throughout such transit.

(iii) The cattle are presented for entry into the United States at a land border port of entry listed in § 93.403(c).

(iv) The cattle are segregated at the U.S. port of entry from cattle from regions of Mexico that APHIS has not determined to be free from fever ticks.

(v) The importer, or his or her agent, executes and delivers to the inspector at the port of entry an application for inspection or supervised dipping. In this application, the importer, or his or her agent, waive all claims against the United States for any loss or damage to the cattle occasioned by or resulting from inspection or dipping or from the fact that the cattle are later found still to be tick infested, and for any loss or damage to any other cattle in the importer's possession or control that come in contact with the dipped cattle.

(vi) The cattle are either inspected by an APHIS inspector at the port of entry for evidence of tick infestation or are treated with a tickicidal dip that is listed in § 72.13 of this chapter under the supervision of an inspector at the port of entry.

(vii) If any cattle are determined to be infested with fever ticks, the lot of cattle is refused entry and may only be imported into the United States subject to the requirements in paragraph (b)(2) of this section.

(2) Cattle from regions of Mexico that APHIS has not determined to be free from fever ticks. Cattle from regions of Mexico that APHIS has not determined to be free from fever ticks may only be imported into the United States subject to the following conditions:

(i) The cattle have been inspected by a veterinarian in Mexico and, in the determination of the veterinarian, are free from fever ticks and all evidence of communicable diseases, and have not been exposed to communicable diseases, other than bovine babesiosis, during the 60 days prior to movement to a port of entry into the United States.

(ii) The cattle have been treated in Mexico with a tickicidal dip that is listed in § 72.13 of this chapter within 7 to 14 days before being offered for entry into the United States.

(iii) The cattle are accompanied by a certificate issued in accordance with § 93.405 that states that this inspection and dipping have occurred.

(iv) The cattle are presented for entry into the United States at the port of entry at Santa Teresa, NM, or a port of entry within Texas that is listed in § 93.403(c).

(v) The importer, or his or her agent, executes and delivers to the inspector at the port of entry an application for inspection and supervised dipping. In this application, the importer, or his or her agent, agrees to waive all claims against the United States for any loss or damage to the cattle occasioned by or resulting from this dipping or from the fact that the cattle are later found to still be infested with ticks, and for any loss or damage to any other cattle in the importer's possession or control that come in contact with the dipped cattle.

(vi) When offered for entry, the cattle receive an inspection by an inspector. If free from fever ticks, the cattle are treated once with a tickicidal dip that is listed in § 72.13 of this chapter 7 to 14 days after the dipping required in paragraph (b)(2)(ii) of this section. If found to be infested with fever ticks, the cattle are refused entry and may not be inspected again at a port of entry until they are again dipped and 7 to 14 days have elapsed.

(vii) The cattle are not imported into an area of Texas that is quarantined in accordance with § 72.5 of this chapter for bovine babesiosis, or for tick infestation.

* * * * *

(Approved by the Office of Management and Budget under control numbers 0579-0040, 0579-0224, 0579-0393, and 0579-0425)

Done in Washington, DC, this 20th day of February 2015.
Kevin Shea,
Administrator, Animal and Plant Health Inspection Service.

[FR Doc. 2015-04074 Filed 2-25-15; 8:45 am]

BILLING CODE 3410-34-P